DEPARTMENT OF AGRICULTURE

Food Safety and Inspection Service

[Docket No. FSIS-2008-0018]

Notice of Funding Opportunity With the Food Safety and Inspection Service for Food Safety and Defense Training for Spanish-Speaking Plant Owners and Operators

AGENCY: Food Safety and Inspection Service, USDA.

ACTION: Notice of funding opportunity.

SUMMARY: The Food Safety and Inspection Service (FSIS) is soliciting applications for one or more cooperative agreements for a collaborative outreach program on food safety and defense. The program will target Spanish-speaking owners and operators of small and very small establishments producing meat and poultry products. The goal is to increase knowledge of and compliance with FSIS requirements regarding meat and poultry products sold in the U.S. by this segment of the regulated industry. FSIS will allocate between $50,000 and $100,000 to one or more cooperative agreements this fiscal year 2008, with agreements being renewable for up to five years.

DATES: Applications must be received by August 11, 2008.

FOR FURTHER INFORMATION CONTACT: Mildred Rivera-Betancourt, Training Operations Branch, telephone (515)727-8987; facsimile (515)727-8992; e-mail mildred.rivera-betancourt@fsis.usda.gov. Application materials can be downloaded from the Government grants Web site at http://www.grants.gov. Click on “Find Grant Opportunities,” then select “Basic Search;” type in “10.479” in the Search by Catalog of Federal Domestic Assistance (CFDA) Number field and select “Search”; click on “Food Safety Cooperation Agreements” and select “Application” to access the application for this announcement.

SUPPLEMENTARY INFORMATION:

Background

FSIS relies on partner agencies, organizations and institutions to help it in many aspects of its public health mission. These partners share FSIS's public health and food safety goals and through their activities make important contributions to national food safety and food defense.

On occasion, FSIS supports such partnerships with state or local agencies, educational institutions or other non-profit organizations by funding projects to address specific areas of mutual concern. This is done under FSIS's authority to enter into cooperative agreements for educational programs or special studies to improve the safety of the nation's food supply (Pub. L. 108-7, sec. 713, 117 Stat. 39).

Cooperative agreements are federal grants where the granting Federal agency is substantially involved with the cooperator that receives the funding during both project development and project execution.

The nature and the number of cooperative projects funded each year are determined by the Agency's current priorities, the availability of discretionary funds, the number of proposals received, and the Agency's assessment of how well proposals will address its stated priority goals and objectives.

Outreach is an essential component of FSIS's regulatory program. Improving outreach is one of FSIS's six priorities in its Strategic Plan for 2008 to 2013. The Web site for the Strategic Plan is: http://search.usda.gov/search?sort=date%3AD%3AL%3Ad1&output=xml_no_dtd&site=FSIS&ie=UTF-8&oe=UTF-8&client=FSIS&proxystylesheet=default_frontend&q=Strategic+Plan.

Outreach is essential because the agency's implementation of its Pathogen Reduction/Hazard Analysis and Critical Control Point (HACCP) regulation requires that regulated establishments develop and implement their own controls to ensure production of safe products. It is a public health imperative that all producers of meat, poultry and egg products for American consumers employ effective systems for food safety and food defense.

Program Description

FSIS wants to improve its outreach to underserved and non-English speaking persons engaged in meat and poultry processing. The initial focus is on Spanish-speaking operators of small plants (fewer than 500 employees) and very small plants (fewer than 10 employees, or less than $2.5 million in sales.) Operators of small and very small plants generally have fewer technical and financial resources by which to ensure compliance with Federal inspection requirements than do large plants. This disadvantage is exacerbated if English is not the predominant language spoken because difficulties may arise in understanding and complying with applicable inspection laws and guidance generally available only in English.

In addition to U.S. plants affected, the ability of plant operators in countries exporting to the U.S. to meet equivalency requirements directly relates to their ability to understand our requirements and establish systems that are as effective as our own.

Therefore, FSIS intends to fund one or more cooperative projects to provide training and education to Spanish-speaking owners and operators of establishments producing meat and poultry products subject to FSIS's regulations. This includes establishments in the U.S., including the Commonwealth of Puerto Rico, and establishments in other countries producing imports to the U.S. in the Caribbean, Mexico, Central and South America. The goal is for those trained to be able to enhance their own food safety programs, better demonstrate compliance with applicable regulations, and communicate more effectively with FSIS and other Agencies regarding the production and export of their meat, poultry, and egg products.

The cooperator that receives the funding will design, develop, and deliver training for Spanish-speaking operators of meat and poultry facilities that addresses the effective use of HACCP systems, appropriate responses to emerging food safety and food defense concerns, understanding of the latest information on foodborne illness and hazards, and the availability of new procedures and technologies for hazard avoidance and mitigation. HACCP training should encompass products entering plants as well as products produced.

Training will address U.S. meat, poultry, and egg products regulations, policies, and procedures. It will also provide guidance on how small and very small plant owners and operators can manage their operations to better ensure compliance with applicable FSIS regulations.

The training program will be designed to reach a large proportion of the targeted operators, directly or indirectly. Training will be delivered through workshops and other kinds of group instruction but will also be delivered through alternative methods such as electronic self-teaching materials and distance learning programs.

Materials developed will have educational value independent of the cooperative project and will be made available by FSIS or the cooperator for reproduction and public use.

Available Funding

Fiscal year 2008 funding will total between $50,000 and $100,000.

Project Period

Projects are funded for a period of up to one year from the project starting date. Awarded cooperative agreement(s) may be renewed yearly for up to four additional years.

Eligible Applicants

Educational institutions, state, local and tribal government agencies, and other non-profit organizations with demonstrable capabilities to provide outreach and education to Spanish-speaking owners and operators of meat and poultry establishments are invited to submit applications.

Content and Form of Application

1. Application for Federal Assistance, OMB Standard Form 424. Please complete this form in its entirety. The original copy of the application must contain a pen-and-ink signature of the authorized organizational representative—an individual with the authority to commit the organization's time and other relevant resources to the project. The CFDA (block 10) is “10.479—Food Safety Cooperative Agreements.” The Web site for OMB Standard Form 424 is: http://www.grants.gov/agencies/aforms_repository_information.jsp.

2. Project Description. The description should provide reviewers sufficient information to effectively evaluate the merits of the application under the review criteria listed below. It should include a statement of the objectives; the steps necessary to implement the objectives of the outreach program; an evaluation plan for the activities; a program delivery plan; and a statement of work describing how the activities will be implemented and managed by the applicant. It should be no longer than eight pages.

The statement of work should be in a table format that identifies each objective, the key tasks to achieve it, the entity responsible for the task, the completion date, the task location, and FSIS' role.

3. Budget. Applicants must complete OMB Standard Form 424-A, “Budget Information, Non-Construction Program”, and a budget narrative itemizing costs for each line item on the SF-424-A. The Web site for OMB Standard Form 424-A is: http://www.grants.gov/agencies/aforms_repository_information.jsp.

4. Key Personnel and Collaborative Arrangements. Applicants should provide information on the roles and responsibilities of each person working on the project, specifying the project leader and including collaborators from other organizations.

Address to Submit Applications

Applications may be submitted through http://www.grants.gov, or directly to FSIS, electronically or by mail. Applications sent directly should be e-mailed to mildred.rivera-betancourt@fsis.usda.gov, or mailed to Mildred Rivera-Betancourt, U.S Department of Agriculture, FSIS, OEET/CFL/TOB, 210 Walnut Street, Room 985, Des Moines, IA 50320.

All applications must be submitted by the deadline. Applications meet the deadline if they are received in the mailroom at the above address on or before the date applications are due.

Date Applications Are Due

Applications are due August 11, 2008.

Acknowledgment of Applications

FSIS will acknowledge receipt of applications by e-mail. If receipt of application is not acknowledged by FSIS within 15 days of the submission deadline, the applicant should contact Mildred Rivera-Betancourt at (515) 727-8987, e-mail: mildred.rivera-betancourt@fsis.usda.gov, or Ralph Stafko at (202) 690-6592, e-mail: ralph.stafko@fsis.usda.gov.

Application Review Process

Applications will be reviewed on their merits by a panel of at least three reviewers from the U.S. Department of Agriculture and other agencies or disinterested organizations as needed. The panel will examine and score applications based on each of the five criteria listed below. Reviewers will assign a point value up to the maximum for each criterion. After all reviewers have evaluated and scored each of the applications, the scores for the entire panel will be averaged to determine a final score for the application.

After assigning points for each criterion, applications will be listed in order of their final score and presented, along with funding level recommendations, to the FSIS Assistant Administrator for Outreach, Employee Education and Training, who will make the final decision on awarding of the cooperative agreement(s). Decisions may be tentative, pending additional information subject to negotiation between FSIS and the applicant.

FSIS will review and critique applications, and select those to be made cooperative projects, by September 23, 2008.

Evaluation Criteria and Weights

Proposals for funding will be reviewed and ranked in accord with the following factors:

• Project Design. The project description demonstrates understanding of the needs of Spanish-speaking operators of small and very small meat and poultry plants. It shows how the project will assist small and very small plants to maintain effective HACCP systems, produce safe products, and otherwise comply with federal regulations. The project provides for effective outreach, including development of work products that can be used to expand coverage through independent use of materials subsequent to the cooperative agreement. The project includes well-constructed plans for assessing needs, targeting those needs, and measuring the program's effectiveness. Maximum 40 points.

• Delivery Plan. The plan specifies applicant's responsibilities for each part of the program delivery. The plan demonstrates ability to identify specific tasks required and time lines to accomplish them. Higher scores will be given to the extent tasks are specific, measurable, and reasonable, have specific periods for completion, relate to required activities, and reflect program objectives. Maximum 20 points.

• Project Management. The applicant demonstrates an ability to implement sound and effective project management. Organizational skills, leadership, and experience in delivering services or programs are indicative of ability to execute project plans. Maximum 20 points.

• Investment in Project. The cooperator agrees to contribute significant resources to the project. Maximum 10 points.

• Collaborative Partnering. The plan reflects intent to work collaboratively with other partners, and demonstrated experience and capacity to partner with other agencies, organizations or institutions, to enhance the effectiveness of the program. Maximum 10 points.

Award Administration

Notification of Award. FSIS will notify project leaders whose applications have been selected for funding. The FSIS awarding official will enter into cooperative agreements with applicants whose applications have been judged most meritorious under the procedures set forth in this announcement. Cooperative agreements will provide the amount of Federal funds for use in the project period, the terms and conditions of the award, and the time-period for the project. The effective date of the award is the date the agreement is executed by both parties. All funds provided must be expended solely for the purposes for which they are obligated under the approved agreement and budget, the regulations, and applicable Federal cost principles. Awarded agreements are subject to applicable Federal regulations and OMB circulars. No commitment of Federal assistance beyond the project period is made or implied for any award resulting from this notice.

Applicants that are not funded will be notified within 120 days after the submission deadline.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves, and they have the option to password protect their accounts.

Done at Washington, DC, on: June 19, 2008.
Alfred V. Almanza,
Administrator.

[FR Doc. E8-14287 Filed 6-24-08; 8:45 am]

BILLING CODE 3410-DM-P